DEPARTMENT OF TRANSPORTATION

Federal Aviation Administration

14 CFR Parts 27 and 29

[Docket No. FAA-2009-0660; Notice No. 10-09]

RIN 2120-AJ52

Damage Tolerance and Fatigue Evaluation of Composite Rotorcraft Structures; Reopening of Comment Period

AGENCY: Federal Aviation Administration (FAA), DOT.

ACTION: Notice of proposed rulemaking (NPRM); reopening of comment period.

SUMMARY: On January 6, 2010, the FAA published a NPRM proposing to revise airworthiness standards for type certification requirements of normal and transport category rotorcraft. The amendment would address advances in composite structures technology and provide internationally harmonized standards. The public was invited to comment for a 90-day period. The comment period closed on April 6, 2010; however, the FAA is reopening the comment period until July 16, 2010 in response to a request from the European Aviation Safety Agency (EASA). Reopening of the comment period would allow the rulemaking processes of the FAA and EASA to better align and facilitate achieving the objective of common international standards.

DATES: The comment period for the NPRM published on January 6, 2010 (75 FR 793) closed April 6, 2010, and is reopened until July 16, 2010.

ADDRESSES: You may send comments identified by Docket Number FAA-2009-0660 using any of the following methods:

• Federal eRulemaking Portal: Go to http://www.regulations.gov and follow the instructions for sending your comments electronically.

• Mail: Send comments to Docket Operations, M-30, U.S. Department of Transportation, 1200 New Jersey Avenue, SE., Room W12-140, West Building Ground Floor, Washington, DC 20590-0001.

• Fax: Fax comments to Docket Operations at 202-493-2251.

• Hand Delivery or Courier: Deliver comments to Docket Operations in Room W12-140 of the West Building Ground Floor at 1200 New Jersey Avenue, SE., Washington, DC, between 9 a.m. and 5 p.m., Monday through Friday, except Federal holidays.

For more information on the rulemaking process, see the SUPPLEMENTARY INFORMATION section of this document.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time or to Docket Operations in Room W12-140 of the West Building Ground Floor at 1200 New Jersey Avenue, SE, Washington, DC, between 9 a.m. and 5 p.m., Monday through Friday, except Federal holidays.

FOR FURTHER INFORMATION CONTACT: Minh-Hai Tran-Lam, ARM-207, Office of Rulemaking, Federal Aviation Administration, 800 Independence Avenue, SW., Washington, DC 20591, telephone (202) 493-4963.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, please send only one copy of written comments, or if you are filing comments electronically, please submit your comments only one time.

We will file in the docket all comments we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Availability of Rulemaking Documents

You can get an electronic copy using the Internet by:

(1) Searching the Federal eRulemaking Portal at http://www.regulations.gov;

(2) Visiting the Office of Rulemaking's Web page at http://www.faa.gov/avr/arm/index.cfm; or

(3) Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number or notice number of this rulemaking.

Background

On January 6, 2010, the FAA published in the Federal Register (75 FR 793) Notice No. 09-12, entitled “Damage Tolerance and Fatigue Evaluation of Composite Rotorcraft Structures” that proposed to revise airworthiness standards for type certification requirements of normal and transport category rotorcraft. The comment period closed April 6, 2010.

By request dated March 22, 2010, EASA addressed the joint interest in this rulemaking objective on the international level. EASA will be issuing an associated Notice of Proposed Amendment (NPA) with anticipated close of comment period in the July 2010 timeframe. EASA stated that in order to provide final rules that are harmonized as much as possible, it will be essential that technical cooperation is maintained and that comments arising from the NPRM and NPA processes are jointly dispositioned by technical experts from each aviation authority. EASA requested that the comment period be extended to coincide with their NPA close of comment period, to allow the rulemaking processes of the FAA and EASA to better align and to facilitate achieving the objective of common international standards.

Reopening of Comment Period

In accordance with § 11.47(c) of title 14, Code of Federal Regulations, the FAA has reviewed the petition made by EASA to reopen the comment period to Notice No. 10-09. This petitioner has shown a substantive interest in the proposed rule and good cause for reopening the comment period. The FAA has determined that reopening the comment period will allow EASA and others additional time for a more thorough review of applicable issues and questions raised by the NPRM and drafting of responsive comments.

To give all interested persons additional time to complete their comments, the FAA finds it is in the public interest to reopen the comment period until July 16, 2010.

Issued in Washington, DC, on April 30, 2010.
Pamela Hamilton-Powell,
Director, Office of Rulemaking.

[FR Doc. 2010-10578 Filed 5-4-10; 8:45 am]

BILLING CODE 4910-13-P